DEPARTMENT OF COMMERCE

National Oceanic and Atmospheric Administration

[I.D.030706B]

Joint State Fish and Game Department Directors and Saltwater Sportfishing Community Public Meeting

AGENCY: National Marine Fisheries Service (NMFS), National Oceanic and Atmospheric Administration (NOAA), Commerce.

ACTION: Notice of open public meeting.

SUMMARY: Notice is hereby given of a meeting of NMFS with the state fish and game department directors and saltwater sportfishing community. This 3-day meeting is held to solicit stakeholder and constituent input on NOAA's recreational fishing data collection program. Agenda topics are provided under the SUPPLEMENTARY INFORMATION section of this notice. All sessions will be open to the public.

DATES: The meeting will be held March 28, 2006, from 12 noon to 5 p.m., March 29, 2006, from 8:30 a.m. to 5 p.m., and March 30, 2006, from 9:30 a.m. to 1 p.m.

ADDRESSES: The meeting will be held at the Double Tree Hotel, 300 Army-Navy Drive, Arlington, Virginia 22202; Phone: (703) 416-4100.

Requests for special accommodations may be directed to Office of Sustainable Fisheries, National Marine Fisheries Service, 1315 East-West Highway, Silver Spring, MD 20910.

FOR FURTHER INFORMATION CONTACT: Steve Meyers, State/Federal Liaison; telephone: (301) 713-2334.

SUPPLEMENTARY INFORMATION: As required by section 10(a)(2) of the Federal Advisory Committee Act, 5 U.S.C. App. 2, notice is hereby given of meetings between NOAA and members of the public.

Matters to be Considered

March 28, 2006

The meeting will begin with remarks from Dr. William T. Hogarth, Assistant Administrator for Fisheries. The group will be briefed on the Magnuson-Stevens Fishery Conservation and Management Act reauthorization, offshore aquaculture, and the NOAA budget.

March 29, 2006

In the morning, the group will be given a briefing on the National Research Council's independent review of NOAA's recreational fishing data collection program. In the afternoon, the group will be updated on a proposal to create a saltwater angler registry.

March 30, 2006

The group will reconvene to receive an update on progress made on the implementation of NOAA's recreational fisheries strategic plan.

Special Accommodations

These meetings are physically accessible to people with disabilities. Requests for sign language interpretation or other auxiliary aids should be directed to Steve Meyers, State/Federal Liaison; telephone: (301) 713-2334.

Dated: March 7, 2006.
Alan Risenhoover,
Acting Director, Office of Sustainable Fisheries, National Marine Fisheries Service.

[FR Doc. E6-3527 Filed 3-10-06; 8:45 am]

BILLING CODE 3510-22-S